DEPARTMENT OF JUSTICE

Notice of Lodging of Consent Decree Pursuant to the Resource Conservation and Recovery Act

In accordance with 28 CFR 50.7, the Department of Justice gives notice that a proposed consent decree in United States v. Mobil Oil Corporation, No. CV-96-1432 (E.D.N.Y), was lodged with the United States District Court for the Eastern District of New York on December 13, 2001, pertaining to the payment of a civil penalty, compliance and other injunctive relief, and implementation of a supplemental environmental project in connection with the Mobil Oil Corporation's (“Mobil”) violations of the Resource Conservation and Recovery Act, 42 U.S.C. 6901 et seq., at the Port Mobil facility in Staten Island, New York City, New York.

Under the proposed consent decree, Mobil will pay a civil penalty of $8.2 million, will agree to comply with RCRA at the Port Mobil facility and implement corrective action as directed by the U.S. Environmental Protection Agency, will agree to refrain from making certain legal arguments under specified circumstances, and will agree to implement a supplemental environmental project—purchasing land for preservation in the Staten Island or New York city harbor area—at a cost of at least $3 million. The Consent Decree includes a release of claims alleged in the complaint.

The Department of Justice will receive, for a period of thirty (30) days from the date of this publication, comments relating to the proposed consent decree. Comment should be addressed to the Assistant Attorney General, Environment and Natural Resource Division, United States Department of Justice, Washington, DC 20530, and should refer to United States v. Mobil Oil Corporation, No. CV-96-1432 (E.D.N.Y.), and DOJ Reference No. 90-7-1-794. Commenters may request an opportunity for a public meeting in the affected area, in accordance with RCRA Section 7003(d), 42 U.S.C. 6973(d).

The proposed consent decree may be examined at: (1) the Office of the United States Attorney for the Eastern District of New York, One Pierrepoint Plaza, Brooklyn, New York 11201, (718) 254-7000; and (2) the United States Environmental Protection Agency (Region 2), 290 Broadway, New York 10007 (contact Stuart Keith in the office of Regional Counsel). A copy of the proposed consent decree may be obtained by mail from the Consent Decree Library, P.O. Box 7611, Washington, DC 20044. In requesting a copy, please refer to the referenced case and DOJ Reference Number and enclose a check in the amount of $6.00 (24 pages at 25 cents per page reproduction costs), may payable to the Consent Decree Library.

Ronald G. Gluck,
Assistant Chief, Environmental Enforcement Section, Environment and Natural Resources Division.

[FR Doc. 01-32221 Filed 12-31-01; 8:45 am]

BILLING CODE 4410-15-M